DEPARTMENT OF VETERANS AFFAIRS

[OMB Control No. 2900-0051]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before October 10, 2000.

FOR FURTHER INFORMATION OR A COPY OF THE SUBMISSION CONTACT: Denise McLamb, Information Management Service (045A4), Department of Veterans Affairs, 810 Vermont Avenue, NW, Washington, DC 20420, (202) 273-8030 or FAX (202) 273-5981. Please refer to “OMB Control No. 2900-0051.”

SUPPLEMENTARY INFORMATION: Title: Quarterly Report of State Approving Agency Activities, VA Form 22-7398.

OMB Control Number: 2900-0051.

Type of Review: Extension of a currently approved collection.

Abstract: VA reimburses State Approving Agencies (SAAs) for necessary salary, and fringe and travel expenses incurred in the approval and supervision of education and training programs. VA makes reimbursement retrospectively on a monthly or quarterly basis after receiving an itemized invoice by the SAA. This invoice must be supported by other documents (such as showing reports of visits to schools and programs approved by SAAs). It includes space for the SAA to report appropriate “work product” (using numbers to reflect a count, in the appropriate category such as visits to schools, programs approved, technical assistance given, etc.).

An agency may not conduct or sponsor, and a person is not required to respond to a collection of information unless it displays a currently valid OMB control number. The Federal Register Notice with a 60-day comment period soliciting comments on this collection of information was published on June 20, 2000, at page 38319.

Affected Public: State, Local or Tribal Government.

Estimated Annual Burden: 228 hours.

Estimated Average Burden Per Respondent: 60 minutes.

Frequency of Response: Quarterly.

Estimated Number of Respondents: 57.

Send comments and recommendations concerning any aspect of the information collection to VA's OMB Desk Officer, Allison Eydt, OMB Human Resources and Housing Branch, New Executive Office Building, Room 10235, Washington, DC 20503 (202) 395-4650. Please refer to “OMB Control No. 2900-0051” in any correspondence.

Dated: August 21, 2000.
By direction of the Acting Secretary.
Donald L. Neilson,
Director, Information Management Service.

[FR Doc. 00-22896 Filed 9-6-00; 8:45 am]

BILLING CODE 8320-01-P